DEPARTMENT OF THE INTERIOR

Fish and Wildlife Service

[Docket No. FWS-R8-ES-2025-0024; FF08ESMF00-256-FXES11140800000]

Chalan Solar and Storage Project, Kern County, California; Draft Environmental Action Statement and Draft Habitat Conservation Plan

AGENCY: Fish and Wildlife Service, Interior.

ACTION: Notice of availability; request for public comment.

SUMMARY: We, the U.S. Fish and Wildlife Service (Service), announce receipt of an application and draft habitat conservation plan from Chalan Solar Storage, LLC (applicant) for an incidental take permit (ITP) under the Endangered Species Act (ESA). The applicant requests the ITP to take the federally endangered San Joaquin kit fox (Vulpes macrotis mutica) and giant kangaroo rat (Dipodomys ingens) incidental to development activities in Kern County, California. We request public comment on the application, which includes the applicant's draft habitat conservation plan (HCP), and the Service's preliminary determination that the proposed permitting action may be eligible for a categorical exclusion pursuant to the Department of the Interior's (DOI) National Environmental Policy Act (NEPA) regulations and the DOI Departmental Manual. To make this preliminary determination, we prepared a draft environmental action statement and low-effect screening form, which are also available for public review. We invite comment from the public and local, State, Tribal, and Federal agencies.

DATES: We must receive your written comments on or before June 20, 2025.

ADDRESSES:

Obtaining Documents: The documents this notice announces, as well as any comments and other materials that we receive, will be available for public inspection at https://www.regulations.gov in Docket No. FWS-R8-ES-2025-0024.

Submitting Comments: To send written comments, please use one of the following methods. Please note whether your comments are in reference to the draft categorical exclusion, draft HCP, or both.

• Internet: Submit comments at https://www.regulations.gov under Docket No. FWS-R8-ES-2025-0024.

• U.S. Mail: Public Comments Processing, Attn: Docket No. FWS-R8-ES-2025-0024; U.S. Fish and Wildlife Service Headquarters, MS: PRB/3W; 5275 Leesburg Pike, Falls Church, VA 22041-3803.

For more information, see Public Comments under SUPPLEMENTARY INFORMATION.

FOR FURTHER INFORMATION CONTACT: Margaret Sepulveda, Senior Fish and Wildlife Biologist, San Joaquin Valley Division, Sacramento Fish and Wildlife Office, by phone at 916-414-6512. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Service announce the availability of a low-effect screening form, prepared pursuant to the National Environmental Policy Act of 1969, as amended (NEPA; 42 U.S.C. 4321 et seq.). This notice also announces the receipt of an application from Chalan Solar Storage, LLC, for a 35-year ITP under the ESA, as amended (16 U.S.C. 1531 et seq.). Application for the permit requires the preparation of a HCP with measures to avoid, minimize, and mitigate the impacts of incidental take to the maximum extent practicable. The applicant prepared the draft Chalan Solar and Storage HCP pursuant to section 10(a)(1)(B) of the ESA. The purpose of the low-effect screening form is to assess the effects of issuing the permit and implementing the draft HCP on the natural and human environment. We request public comment on the application, which includes the applicant's HCP, and on the Service's preliminary determination that this proposed ITP qualifies as low effect and, thus, may qualify for a categorical exclusion.

Background Information

Section 9 of the ESA (16 U.S.C. 1538) prohibits the taking of fish and wildlife species listed as endangered under section 4 of the ESA. Section 4(d) of the ESA (16 U.S.C. 1533(d)) allows the Service to extend protections for endangered species to those listed as threatened. Regulations governing permits for endangered and threatened species are at 50 CFR 17.22 and 17.32, respectively. For more about the Federal HCP program, go to https://www.fws.gov/service/habitat-conservation-plans.

National Environmental Policy Act Compliance

The potential issuance of a permit triggers the need for compliance with NEPA. The draft low-effect screening form was prepared to assess whether issuing an ITP based on the draft HCP would result in more than minor or negligible effects on the human environment.

Proposed Action

The Service proposes to issue an ITP to the applicant for a period of 35 years for certain covered activities. The applicant has requested an ITP for two covered species, the San Joaquin kit fox (Vulpes macrotis mutica) and giant kangaroo rat (Dipodomys ingens), both of which are listed as endangered under the ESA.

Habitat Conservation Plan Area

The geographic scope of the draft HCP encompasses approximately 878 acres (ac), including a 618-ac development area in Kern County and 260 ac of conservation lands located north of the development in Kings County. The project would result in the construction, operation, and decommissioning of a solar electrical generation and storage facility located in northern Kern County, approximately 16 miles north of Lost Hills, California.

Covered Activities

The applicant is requesting incidental take authorization for covered activities including the construction, operation, maintenance, and eventual decommissioning of the solar energy electrical generation and storage facility (Proposed Project). The applicant is proposing to implement several project design features, including best management practices, as well as general and species-specific avoidance and minimization measures to minimize the impacts of the take from the covered activities.

Our Preliminary Determination

The Service made a preliminary determination that the applicant's Proposed Project and the proposed mitigation and minimization measures would individually and cumulatively have a minor effect on the San Joaquin kit fox, giant kangaroo rat, and the human environment. Therefore, we have preliminarily determined that the proposed ESA section 10(a)(1)(B) permit would be a low-effect ITP that individually or cumulatively would have a minor effect on the San Joaquin kit fox and giant kangaroo rat and may qualify for application of a categorical exclusion. A low-effect ITP is one that would result in (1) minor or nonsignificant effects on species covered in the HCP; (2) nonsignificant effects on the human environment; and (3) impacts that, when added together with the impacts of other past, present, and reasonably foreseeable actions, would not result in significant cumulative effects to the human environment.

Public Comments

We request data, comments, new information, or suggestions from the public, other concerned governmental agencies, the scientific community, Tribes, industry, or any other interested party on this notice, the draft categorical exclusion, and the draft HCP. We particularly seek comments on the following:

1. Biological information concerning the species;

2. Relevant data concerning the species;

3. Additional information concerning the range, distribution, population size, and population trends of the species;

4. Current or planned activities in the area and their possible impacts on the species;

5. The presence of archeological sites, buildings and structures, historic events, sacred and traditional areas, and other historic preservation concerns, which are required to be considered in project planning by the National Historic Preservation Act; and

6. Any other environmental issues that should be considered with regard to the proposed development and permit action.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Next Steps

The Service will evaluate the application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue the ITP to the applicant.

Authority

The Service provides this notice under section 10(c) of the ESA (16 U.S.C. 1531 et seq.) and its implementing regulations (50 CFR 17.22) and NEPA (42 U.S.C. 4321 et seq.) and DOI's NEPA implementing regulations (43 CFR part 46).

Amber Aguilera,
Acting Field Supervisor, Sacramento Fish and Wildlife Office.

[FR Doc. 2025-09003 Filed 5-19-25; 8:45 am]

BILLING CODE 4333-15-P